DEPARTMENT OF THE INTERIOR

Bureau of Land Management

[ES-960-9820-BJ-ES03] ES-50670, Group 199, Florida

Notice of Filing of Plat of Survey; Florida

The plat of the dependent resurvey of a portion of the south boundary of the Moses E. Levy Grant, a portion of the south and north boundaries, the east boundary, a portion of the subdivisional lines and the corrective dependent resurvey of a portion of the subdivisional lines, Township 17 South, Range 27 East, Tallahassee Meridian, Florida, will be officially filed in Eastern States, Springfield, Virginia at 7:30 a.m., on June 12, 2000.

The survey was requested by the U.S. Forest Service.

All inquiries or protests concerning the technical aspects of the survey must be sent to the Chief Cadastral Surveyor, Eastern States, Bureau of Land Management, 7450 Boston Boulevard, Springfield, Virginia 22153, prior to 7:30 a.m., June 12, 2000.

Copies of the plat will be made available upon request and prepayment of the appropriate fee.

Dated: April 27, 2000.
Stephen G. Kopach,
Chief Cadastral Surveyor.

[FR Doc. 00-11965 Filed 5-11-00; 8:45 am]

BILLING CODE 4310-GJ-P